FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011689-015.

Title: Zim/CSCL Slot Charter Agreement.

Parties: Zim Integrated Shipping Services, Ltd.; China Shipping Container Line Co., Ltd. and China Shipping Container Lines (Hong Kong) Co., Ltd. (acting as a single party).

Filing Party: Mark E. Newcomb, Zim American Integrated Shipping Services Company, Inc.; 5801 Lake Wright Drive, Norfolk, VA 23508.

Synopsis: The amendment would revise the amount of space chartered and the services on which the space is chartered under the agreement, and would change the terms under which the agreement can be terminated.

Agreement No.: 012217.

Title: HSDG/HLAG Space Charter Agreement.

Parties: Hamburg Sud and Hapag-Lloyd AG.

Filing Party: Wayne R. Rohde, Esq.; Cozen O'Connor; 1627 I Street NW., Suite 1100; Washington, DC 20006.

Synopsis: The agreement authorizes Hamburg Sud to charter space to Hapag-Lloyd in the trade between the U.S. Atlantic Coast, and ports in Argentina and Brazil.

Agreement No.: 012218.

Title: Simatech/Hapag-Lloyd Space Charter Agreement.

Parties: Simatech Americas, Inc. and Hapag-Lloyd AG.

Filing Party: Wayne R. Rohde, Esq.; Cozen O'Connor; 1627 I Street NW., Suite 1100; Washington, DC 20006.

Synopsis: The agreement authorizes Simatech to charter space to Hapag-Lloyd in the trade between Miami, FL, and ports in Honduras and Guatemala.

Agreement No.: 201179-002.

Title: Lease and Operating Agreement between PRPA and Growmark, Inc.

Parties: Growmark, Inc. and The Philadelphia Regional Port Authority (PRPA).

Filing Party: Paul D. Coleman, Esq.; Hoppel, Mayer & Coleman; 1050 Connecticut Avenue NW., 10th Floor; Washington, DC 20036.

Synopsis: The amendment sets forth specific uses for the facilities operated under the agreement and specifies the cargo categories to be handled under the agreement.

By Order of the Federal Maritime Commission.
Dated: August 23, 2013.
Karen V. Gregory,
Secretary.

[FR Doc. 2013-21041 Filed 8-28-13; 8:45 am]

BILLING CODE P